FEDERAL COMMUNICATIONS COMMISSION

47 CFR Part 1

[GN Docket No. 23-65, IB Docket No. 22-271, FCC 24-28; FR ID 264974]

Single Network Future: Supplemental Coverage From Space; Space Innovation

AGENCY: Federal Communications Commission.

ACTION: Final rule; announcement of effective date.

SUMMARY: In this document, the Federal Communications Commission (Commission) announces that the Office of Management and Budget (OMB) has approved, for a period of three years, information collections associated with certain rules adopted in the 2024 Single Network Future: Supplemental Coverage from Space; Space Innovation Report and Order and Further Notice of Proposed Rulemaking (Report and Order), FCC 24-28. The Commission also announces the effective date for these rules.

DATES: The amendments to 47 CFR 1.9047(d)(2), published at 89 FR 34148 on April 30, 2024, are effective on December 5, 2024.

FOR FURTHER INFORMATION CONTACT: For further information, please contact Christine Parola, Attorney Advisor, Mobility Division, Wireless Telecommunications Bureau at (202) 418-7851 or Christine.Parola@fcc.gov. For additional information concerning the Paperwork Reduction Act information collection requirements, contact Cathy Williams at (202) 418-2918.

SUPPLEMENTARY INFORMATION: This document announces that OMB approved, for a period of three years, the information collection requirements in 47 CFR 1.9047(d)(2) on October 30, 2024.

To request materials in accessible formats for people with disabilities (Braille, large print, electronic files, audio format), send an email to fcc504@fcc.gov or call the Consumer and Governmental Affairs Bureau at (202) 418-0530 (voice).

Synopsis

As required by the Paperwork Reduction Act of 1995 (44 U.S.C. 3507), the FCC is notifying the public that it received OMB approval on October 30, 2024, for the information collection requirements contained in the Commission's rules at 47 CFR 1.9047(d)(2) under OMB control number 3060-1058.

Under 5 CFR part 1320, an agency may not conduct or sponsor a collection of information unless it displays a current, valid OMB Control Number.

No person shall be subject to any penalty for failing to comply with a collection of information subject to the Paperwork Reduction Act that does not display a current, valid OMB Control Number.

The foregoing notice is required by the Paperwork Reduction Act of 1995, Public Law 104-13, October 1, 1995, and 44 U.S.C. 3507.

The total annual reporting burdens and costs for the respondents are as follows:

OMB Control Number: 3060-1058.

OMB Approval Date: October 30, 2024.

OMB Expiration Date: October 31, 2027.

Title: FCC Application or Notification for Spectrum Leasing Arrangement or Private Commons Arrangement: WTB and PSHS Bureaus.

Form Number: FCC Form 608.

Respondents: Individual and households; Businesses or other for-profit entities; State, local, or tribal government, and Not for profit institutions.

Number of Respondents: 1,697 respondents; 1,697 responses.

Estimated Time per Response: 0.05 hours-3 hours.

Frequency of Response: Recordkeeping requirement, third party disclosure requirement, on occasion reporting requirement, one-time reporting requirement and periodic reporting requirement.

Obligation to Respond: Required to obtain or retain benefits. Statutory authority for this information collection is contained in 47 U.S.C. 1, 4(i), 157, 301, 303, 307, 308, 309, and 310 of the Communications Act of 1934, as amended.

Total Annual Burden: 2,878 hours.

Total Annual Cost: $1,763,375.

Needs and Uses: FCC Form 608 is a multi-purpose form. It is used to provide notification or request approval for any spectrum leasing arrangement (“Lease”) entered into between an existing licensee in certain Wireless and/or Public Safety Radio Services and a spectrum lessee. This form also is required to notify or request approval for any spectrum subleasing arrangement (“Sublease”). The data collected on the form is used by the FCC to determine whether the public interest would be served by the Lease or Sublease. The form is also used to provide notification for any Private Commons Arrangement entered into between a licensee, lessee, or sublessee and a class of third-party users (as defined in section 1.9080 of the Commission's Rules).

The Commission is revising this form to collect information in order to confirm that satellite service operators and terrestrial service providers who seek to enter lease agreements in order to offer supplemental coverage from space (SCS) do so in compliance with the rules that govern SCS operations. On March 15, 2024, the Commission released the Report and Order, which adds new § 1.9047(d)(2) to the Commission's rules requiring the spectrum lessee or sublessee seeking to engage in spectrum leasing under this section to provide certain information within the Commission Form 608 when seeking a leasing agreement to provide SCS. Applicants will file Form 608 into the Commission's Universal Licensing System (ULS) database.

The Commission anticipates that SCS will enable consumers in areas not covered by terrestrial networks to be connected using their existing devices via satellite-based communications. SCS is a crucial component of the Commission's vision for a “single network future,” in which satellite and terrestrial networks work seamlessly together to provide coverage that neither network can achieve on its own. In order to ensure that prospective SCS operators will be able to comply with the applicable rules, that the public interest will be served by granting their applications, and that harmful interference will be avoided to the greatest extent possible thereafter, the Commission seeks to collect the following information from prospective SCS spectrum lessees.

The Commission has adopted new requirements in its part 1 rules that obligate lessees to provide the following on FCC Form 608: a certification that they are entering a leasing agreement in order to provide SCS; a description of the type of permitted arrangement the parties will enter (e.g., is there a single terrestrial licensee or multiple terrestrial licensees that together hold the required licenses); and, if there are multiple terrestrial licensees, a further description of the leasing arrangement and explanation of how those licensees together hold all of the relevant licenses in a particular geographically independent area (GIA). Entities completing FCC Form 608 for the purposes of providing SCS must also indicate that the application is for SCS by checking a box on Form 608.

This information collection is designed to allow Commission staff to carry out its statutory duties to regulate satellite communications in the public interest; namely, to ensure that prospective providers of SCS will operate in compliance with the applicable regulatory framework. This process utilizes an existing Commission form, which will remove confusion by employing the procedures that are already in place. The modifications for Form 608 covered herein will enable the Commission to more accurately track filings related to the provision of SCS, a critical component of application review given the interplay between part 1 lease filings and part 25 license applications inherent in the SCS framework. This is especially crucial where multiple entities together hold all co-channel licenses in a particular band throughout a geographically independent area (GIA) and wish to deploy a leasing agreement with a satellite operator to provide SCS. Such arrangements are only permitted in the circumstances described in § 1.9047(d)(1)(ii)(A) through (B); specifically, the Commission must be able to confirm that the multiple licensees in fact cover the entirety of the GIA in question and that, when reviewing related part 25 license applications, the entire area of the proposed service is covered by the associated leases. This collection will thereby enable the Commission to monitor and enforce the entry criteria that SCS providers must satisfy, and which are designed to minimize the possibility of harmful interference. Finally, the collection will play a critical role in the Commission's effort to review and track leasing arrangements that will result in entities providing SCS.

Federal Communications Commission.
Marlene Dortch,
Secretary, Office of the Secretary.

[FR Doc. 2024-28172 Filed 11-29-24; 8:45 am]

BILLING CODE 6712-01-P